DEPARTMENT OF COMMERCE

Foreign-Trade Zones Board

[Docket 36-2011]

Foreign-Trade Zone 277—Western Maricopa County, AZ; Application for Reorganization Under Alternative Site Framework

An application has been submitted to the Foreign-Trade Zones (FTZ) Board (the Board) by the Greater Maricopa Foreign-Trade Zone, Inc., grantee of FTZ 277, requesting authority to reorganize the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on May 23, 2011.

FTZ 277 was approved by the Board on December 22, 2010 (Board Order 1733, 76 FR 1134, 01/07/2011). The current zone project includes the following sites: Site 1 (230 acres)—within the 416-acre Airport Gateway at Goodyear industrial complex, Bullard Avenue and Van Buren Street, Goodyear; Site 2 (133 acres)—within the 286-acre Surprise Pointe Business Park, Waddell Road and Litchfield Road, Surprise; Site 3 (235 acres)—within the 1,600-acre Palm Valley 303 Industrial Park, Camelback Road and State Road 303, Goodyear; and, Site 4 (320 acres)—within the 1,314-acre 10 West Logistics Center, Van Buren Street and Interstate 10 at 339th Avenue, Maricopa County.

The grantee's proposed service area under the ASF would be western Maricopa County, Arizona, as described in the application. If approved, the grantee would be able to serve sites throughout the service area based on companies' needs for FTZ designation. The proposed service area is adjacent to the Phoenix U.S. Customs and Border Protection port of entry.

The applicant is requesting authority to reorganize its existing zone project to include all of the existing sites as “magnet” sites. No usage-driven sites are being requested at this time.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is July 26, 2011. Rebuttal comments in response to material submitted during the foregoing period may be submitted during the subsequent 15-day period to August 10, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Christopher Kemp at Christopher.Kemp@trade.gov or (202) 482-0862.

Dated: May 23, 2011.
Andrew McGilvray,
Executive Secretary.

[FR Doc. 2011-13265 Filed 5-26-11; 8:45 am]

BILLING CODE 3510-DS-P